DEPARTMENT OF DEFENSE

Office of the Secretary

[Transmittal No. 19-29]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-29 with attached Policy Justification.

Dated: December 17, 2019.
Aaron T. Siegel,
Alternate OSD Federal Register Liaison Officer, Department of Defense.

Transmittal No. 19-29

Notice of Proposed Issuance of Letter of Offer Pursuant to Section 36(b)(1) of the Arms Export Control Act, as amended

(i) Prospective Purchaser: Government of Pakistan

(ii) Total Estimated Value:

Major Defense Equipment * | $ 0 million
Other | $125 million
TOTAL | $125 million

(iii) Description and Quantity or Quantities of Articles or Services under Consideration for Purchase:

Major Defense Equipment (MDE): None

Non-MDE: Continuation of technical support services; U.S. Government and contractor technical and logistics support services; and other related elements of logistics support to assist in the oversight of operations in support of the Pakistan Peace Drive advanced F-16 program.

(iv) Military Department: Air Force (PK-D-GAI)

(v) Prior Related Cases, if any: PK-D-GAC, PK-D-GAF

(vi) Sales Commission, Fee, etc., Paid, Offered, or Agreed to be Paid: None

(vii) Sensitivity of Technology Contained in the Defense Article or Defense Services Proposed to be Sold: None

(viii) Date Report Delivered to Congress: July 26, 2019

* As defined in Section 47(6) of the Arms Export Control Act.

POLICY JUSTIFICATION

Pakistan—Technical Security Team (TST) in Continued Support of the F-16 Program

The Government of Pakistan requested a continuation of technical support services; U.S. Government and contractor technical and logistics support services; and other related elements of logistics support to assist in the oversight of operations in support of the Pakistan Peace Drive advanced F-16 program. The total estimated program cost is $125 million.

This proposed sale will support the foreign policy and national security of the United States by protecting U.S. technology through the continued presence of U.S. personnel that provide 24/7 end-use monitoring.

Congress required 24/7 monitoring of the advanced F-16s and AMRAAMs in the original LOA, which is carried out by the Technical Security Teams (TST) at Shahbaz and Mushaf Air Force bases. The TST exists to protect sensitive U.S technology through 24/7 observation and reporting. TST members are not authorized to train Pakistan Air Force (PAF) service members or perform maintenance on PAF aircraft.

The proposed sale of this support will not alter the basic military balance in the region.

The principal contractor is Booz Allen Hamilton Engineering Services LLC, Fairborn, Ohio.

Implementation of this proposed sale will require the assignment of 60 contractor representatives to Pakistan to assist in the oversight of operations as part of the Peace Drive F-16 program.

There will be no adverse impact on U.S. defense readiness as a result of this proposed sale.

[FR Doc. 2019-27622 Filed 12-20-19; 8:45 am]

BILLING CODE 5001-06-P